ENVIRONMENTAL PROTECTION AGENCY

[EPA-HQ-OLEM-2023-0416; FRL-11354-01-OLEM]

Agency Information Collection Activities; Proposed Information Collection Request; Comment Request; Materials Management Information Collection Request

AGENCY: Environmental Protection Agency (EPA).

ACTION: Notice.

SUMMARY: The Environmental Protection Agency (EPA) is planning to submit an information collection request (ICR), Materials Management Information Collection Request (EPA ICR Number 2789.01, OMB Control Number 2050-NEW) to the Office of Management and Budget (OMB) for review and approval in accordance with the Paperwork Reduction Act. Before doing so, EPA is soliciting public comments on specific aspects of the proposed information collection as described below. This is a request for approval of a new collection. This notice allows for 60 days for public comments.

DATES: Comments must be submitted on or before November 28, 2023.

ADDRESSES: Submit your comments, referencing Docket ID Number EPA-HQ-OLEM-2023-0416, to EPA online using www.regulations.gov (our preferred method), or by mail to: EPA Docket Center, Environmental Protection Agency, Mail Code 28221T, 1200 Pennsylvania Ave. NW, Washington, DC 20460. EPA's policy is that all comments received will be included in the public docket without change including any personal information provided, unless the comment includes profanity, threats, information claimed to be Confidential Business Information (CBI) or other information whose disclosure is restricted by statute.

FOR FURTHER INFORMATION CONTACT: Hannah Blaufuss, Resource Conservation and Sustainability Division, Office of Resource Conservation and Recovery, 5306P, Environmental Protection Agency, 1200 Pennsylvania Ave. NW, Washington, DC 20460; telephone number: 202-564-5614; email address: Blaufuss.hannah@epa.gov.

SUPPLEMENTARY INFORMATION: This is a request for approval of a new collection. An agency may not conduct or sponsor and a person is not required to respond to a collection of information unless it displays a currently valid OMB control number.

This notice allows 60 days for public comments. Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Pursuant to section 3506(c)(2)(A) of the PRA, EPA is soliciting comments and information to enable it to: (i) Evaluate whether the proposed collection of information is necessary for the proper performance of the functions of the Agency, including whether the information will have practical utility; (ii) evaluate the accuracy of the Agency's estimate of the burden of the proposed collection of information, including the validity of the methodology and assumptions used; (iii) enhance the quality, utility, and clarity of the information to be collected; and (iv) minimize the burden of the collection of information on those who are to respond, including through the use of appropriate forms of information technology. EPA will consider the comments received and amend the ICR as appropriate. The final ICR package will then be submitted to OMB for review and approval. At that time, EPA will issue another Federal Register notice to announce the submission of the ICR to OMB and the opportunity to submit additional comments to OMB.

Abstract: EPA's Office of Land and Emergency Management, Office of Resource Conservation and Recovery (ORCR) is charged with, among other responsibilities, ensuring efficient and equitable non-hazardous waste management. In this capacity, timely and consistent information on waste/materials generation, disposition and recovery is essential to ensure that programs, policies, and grant monies are properly targeted. Several statutes mandate EPA to implement grants and programs that will be supported by this Information Collection Request (ICR). Those statutes include the Save our Seas 2.0 Act (SOS 2.0) (Pub. L. 116-224), the Infrastructure Investment and Jobs Act (IIJA) (Pub. L. 117-58) and the Resource Conservation and Recovery Act (RCRA) 42 U.S.C. 6983. EPA is mandated to meet certain reporting requirements as part of the grant programs established in SOS 2.0 and IIJA. The creation of two new grant programs in ORCR requires efficiency to effectively manage the new work. Under this ICR, a new knowledge management system will be developed to manage the post-award grant reporting that is mandatory for grant recipients' reporting requirements under SOS 2.0 and IIJA. This system will assist staff in organizing quarterly reports to measure impact and report to Congress. Information collected under this ICR also will illustrate progress toward the National Recycling Goal to increase the nation's recycling rate to 50% by 2030 and the U.S. 2030 Food Loss and Waste Reduction Goal to cut food loss and waste in half by the year 2030. This ICR encompasses EPA activities under the National Recycling Strategy to characterize materials management infrastructure, standardize measurement and increase data collection, and update the Facts and Figures on Materials, Wastes and Recycling Report. This ICR also will support activities associated with future strategies EPA may release as part of the series on building a circular economy for all, including the National Strategy to Prevent Plastic Pollution. To track progress on the implementation of these strategies and goals, EPA requires current, accurate, and evolving data on national waste management pathways, including recycling participation and food loss and waste generation rates. Without data collection, tracking progress relies upon predictive modelling that may be insufficiently accurate and precise when definitiveness is key. Lastly, this ICR also will support working with EPA's Office of Research and Development, and potentially the National Center for Environmental Economics, to integrate Waste Input-Output modeling and the U.S. Environmentally-Extended Input-Output model as the basis for future Facts and Figures data estimates.

Form numbers: None.

Respondents/affected entities: To be determined.

Respondent's obligation to respond: voluntary for general surveys and mandatory for grant recipients' per reporting requirements under SOS 2.0 and IIJA.

Estimated number of respondents: To be determined.

Frequency of response: To be determined.

Total estimated burden: To be determined.

Total estimated cost: To be determined.

Dated: September 24, 2023.
Carolyn Hoskinson,
Director, Office of Resource Conservation and Recovery.

[FR Doc. 2023-21326 Filed 9-28-23; 8:45 am]

BILLING CODE 6560-50-P